DEPARTMENT OF LABOR

Office of the Secretary

Submission for OMB Review; Comment Request

May 15, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contact Darrin King on 202-693-4129 (this is not a toll-free number) or E-mail: king.darrin@dol.gov.

Comments should be sent to Office of Information and Regulatory Affairs, Attn: OMB Desk Officer for the Employment Standards Administration, Office of Management and Budget, Room 10235, Washington, DC 20503, (202-395-7316), within 30 days from the date of this publication in the Federal Register.

The OMB is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Employment Standards Administration (ESA).

Type of Review: Extension of a currently approved collection.

Title: Employment Under Special Certificate of Apprentices, Messengers, and Learners (including Student Learners).

OMB Number: 1215-0192.

Frequency: On occasion and Annually.

Type of Response: Recordkeeping and Reporting.

Affected Public: Business or other for-profit; Individuals or households; Not-for-profit institutions; and State, Local, or Tribal Government.

Number of Respondents: 400.

Annual Responses: 400.

Average Response Time: 30 minutes.

Total Burden Hours: 200.

Total Annualized capital/startup costs: $0.

Total annual costs (operating/maintaining systems or purchasing services): $160.

Description: Employers are required by the Department of Labor to submit an application for authorization to employ apprentices, messengers, and learners at subminimum wages under the provisions of section 14(a) of the Fair Labor Standards Act. Required applications and records are reviewed by the Department of Labor to determine whether statutory and regulatory requirements for the employment of apprentices, messengers, and learners have been met.

Ira L. Mills,
Departmental Clearance Officer.

[FR Doc. 03-13123 Filed 5-23-03; 8:45 am]

BILLING CODE 4510-30-M